DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2013, there were five applications approved. Additionally, five approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Aberdeen, South Dakota.

Application Number: 13-03-C-00-ABR.

Application Type: Impose and use a PFC.

PFC Level: $4.50.

Total PFC Revenue Approved in This Decision: $542,552.

Earliest Charge Effective Date: November 1, 2013.

Estimated Charge Expiration Date: June 1, 2019.

Class of Air Carriers Not Required to Collect PFC's: None.

Brief Description of Projects Approved for Collection and Use:

PFC audit costs, 2001 through 2011.

Master plan and airport layout plan.

Regulator for runway 17/35.

Install new gate.

Develop plans and specifications for snow removal equipment building.

Airport layout plan update/revisions.

Acquire snow removal equipment (snow chute).

Acquire snow removal equipment (two 8-foot blades).

Acquire snow removal equipment (tow-behind broom).

Acquire snow removal equipment (motor grader).

Security vehicle.

Construction of snow removal equipment building.

Construction of snow removal equipment building (engineering/design).

Construction of snow removal equipment building (geothermal heat system).

Hangar taxi lane improvements.

Hangar taxi lane improvements (engineering/design).

Master plan update.

Acquire snow removal equipment (two skid steers).

Reconstruction of taxiway D and installation of taxiway lighting.

Engineering for taxiway D reconstruction and lighting.

Decision Date: June 5, 2013.

FOR FURTHER INFORMATION CONTACT: David Anderson, Bismarck Airports District Office, (701) 323-7385.

Public Agency: County of Nez Perce and City of Lewiston, Lewiston, Idaho.

Application Number: 13-04-C-00-LWS.

Application Type: Impose and use a PFC.

PFC Level: $4.50.

Total PFC Revenue Approved in This Decision: $1,073,616.

Earliest Charge Effective Date: November 1, 2013.

Estimated Charge Expiration Date: March 1, 2019.

Class of Air Carriers not Required to Collect PFC's: Nonscheduled/on-demand air carriers using aircraft with a seating capacity of less than 20 passengers operating at Lewiston—Nez Perce County Regional Airport (LWS).

Determination: Approved. Based on information submitted in the public agency's application, the FAA has determined that the proposed class accounts for less than 1 percent of the total annual enplanements at LWS.

Brief Description of Project Approved for Collection and Use:

Security enhancements.

Taxiways B, C, and D reconstruction.

Master plan update.

Rehabilitate terminal apron.

Passenger loading bridge.

Wildlife hazard management program.

Southside partial parallel taxiway construction.

Runway 8/26 rehabilitation and blast pad installation.

Airport master plan update.

Apron reconstruction.

Snow removal equipment acquisition.

Aircraft rescue and firefighting building construction.

Aircraft rescue and firefighting equipment acquisition.

Runway 12/30 rehabilitation.

Runway 12/30 lighting installation.

Taxiway D and midfield apron construction.

Taxiway lighting installation.

Decision Date: June 7, 2013.

FOR FURTHER INFORMATION CONTACT: Trang Tran, Seattle Airports District Office, (425) 227-1662.

Public Agency: County of Milwaukee, Milwaukee, Wisconsin.

Application Number: 13-17-C-00-MKE.

Application Type: Impose and use a PFC.

PFC Level: $3.00.

Total PFC Revenue Approved in This Decision: $32,553,528.

Charge Effective Date: February 1, 2024.

Charge Expiration Date: November 1, 2026.

Class of Air Carriers Not Required to Collect PFC's: Air taxi/commercial operators filing FAA Form 1800-31 and operating at General Mitchell International Airport (MKE).

Determination: Approved. Based on information submitted in the public agency's application, the FAA has determined that the proposed class accounts for less than 1 percent of the total annual enplanements at MKE.

Brief Description of Projects Approved for Collection and Use:

Taxiway B reconstruction.

Perimeter fencing.

Perimeter road bridge over Howell Avenue—design and construction.

Cargo deicer collection—construction.

Perimeter road extension (128th to College Avenue).

Baggage claim area expansion—construction.

Purchase new passenger loading bridges and related improvements—design and construction.

Redundant main electrical service feed—construction.

Expansion of fleet portion of combined maintenance facility—construction.

Terminal roadway signage—construction.

Taxiways R, R3, and Q reconstruction—design.

Master plan update completion/airport geographic information system.

Brief Description of Project Partially Approved for Collection and Use: Runway 7R deicer pad—design and construction.

Determination: Partially approved. The deicing control center was determined to be an operational costs and, as such, did not meet the requirements of § 158.15(b).

Decision Date: June 13, 2013.

FOR FURTHER INFORMATION CONTACT: Sandy Depottey, Minneapolis Airports District Office, (612) 253-4642.

Public Agency: Lee County Port Authority, Fort Myers, Florida.

Application Number: 13-08-C-00-RSW.

Application Type: Impose and use a PFC.

PFC Level: $4.50.

Total PFC Revenue Approved in This Decision: $20,554,824.

Earliest Charge Effective Date: October 1, 2018.

Estimated Charge Expiration Date: January 1, 2020.

Class of Air Carriers Not Required to Collect PFC's: All air taxi/commercial operators filing FAA Form 1800-31 and operating at Southwest Florida International Airport (RSW).

Determination: Approved. Based on information submitted in the public agency's application, the FAA has determined that the proposed class accounts for less than 1 percent of the total annual enplanements at RSW.

Brief Description of Project Approved for Collection and Use at a $4.50 PFC Level: Air traffic control tower/terminal approach control building design and construction.

Brief Description of Project Approved For Collection and Use at a $3.00 PFC Level: PFC implementation and administrative costs.

Decision Date: June 18, 2013.

FOR FURTHER INFORMATION CONTACT: Susan Moore, Orlando Airports District Office, (407) 812-6331.

Public Agency: Counties of Lackawanna and Luzerne, Avoca, Pennsylvania.

Application Number: 13-09-C-00-AVP.

Application Type: Impose and use a PFC.

PFC Level: $4.50.

Total PFC Revenue Approved in This Decision: $2,452,563.

Earliest Charge Effective Date: November 1, 2020.

Estimated Charge Expiration Date: July 1, 2029.

Class of Air Carriers Not Required to Collect PFC's: None.

Brief Description of Projects Approved for Collection and Use:

Rehabilitate landside roadway.

Replace runway 4/22 lighting and transformers.

Replace runway surface sensor systems.

Rehabilitate taxiway B design and construct.

Replace aircraft rescue and firefighting equipment.

Upgrade electronic exit lane systems.

Acquire equipment—replace plow vehicles and spreaders.

Acquire security equipment—security system card readers and security surveillance cameras.

Replace security vehicles and equipment.

Extend and rehabilitate apron (airline).

Demolish old passenger terminal building for new apron.

Replace airfield generator.

Install precision approach path indicators, runway 10.

Brief Description of Projects Approved for Collection:

Install airfield perimeter wildlife fence.

Acquire aircraft rescue and firefighting vehicle—1500 gallon.

Rehabilitate taxiway D and shoulders—design and construct.

Expand terminal baggage area—design and construct.

Construct east side access road.

Brief Description of Disapproved Projects: Design and construct taxiway B extension.

Determination: Project does not meet the requirements of § 158.30(c). Design and construct terminal customs area renovations.

Determination: Project does not meet the requirements of § 158.15(c). Safety management systems implementation.

Determination: Project does not meet the requirements of § 158.15(b). Rehabilitate general aviation and terminal aprons—sealcoating.

Determination: Project determined to be routine maintenance and as such does not meet the requirements of § 158.15(b).

Expand fuel farm.

Determination: Project does not meet the requirements of § 158.15(b).

Rehabilitate public access roads.

Determination: Project does not meet the requirements of § 158.15(b).

Decision Date: June 20, 2013.

FOR FURTHER INFORMATION CONTACT: Lori Ledebohm, Harrisburg Airports District Office, (717) 730-2835.

Amendments to PFC Approvals
Amendment No., city, state | Amendment approved date | Original approved Net PFC revenue | Amended approved net PFC revenue | Original estimated charge exp. date | Amended estimated charge exp. date
94-01-C-05-FLL, Fort Lauderdale, FL | 06/12/13 | $46,592,957 | $40,036,449 | 09/01/98 | 09/01/98
98-02-C-04-FLL, Fort Lauderdale, FL | 06/12/13 | 181,471,378 | 181,471,378 | 09/01/05 | 09/01/05
11-12-C-01-BUR, Burbank, CA | 06/13/13 | 3,917,000 | 3,937,000 | 08/01/19 | 10/01/19
03-15-C-02-CHO, Charlottesville, VA | 06/18/13 | 850,000 | 514,872 | 02/01/07 | 02/01/07
11-08-C-01-AVP, Avoca, PA | 06/20/13 | 2,842,784 | 5,036,660 | 10/01/24 | 11/01/20

Issued in Washington, DC, on December 6, 2013.
Joe Hebert,
Manager, Financial Analysis and Passenger Facility Charge Branch.

[FR Doc. 2013-29925 Filed 12-16-13; 8:45 am]

BILLING CODE 4910-13-P